DEPARTMENT OF HOMELAND SECURITY

Coast Guard

33 CFR Part 117

[Docket No. USCG-2014-0317]

Drawbridge Operation Regulation; Hackensack River, Jersey City, NJ

AGENCY: Coast Guard, DHS.

ACTION: Notice of deviation from drawbridge regulation.

SUMMARY: The Coast Guard has issued a temporary deviation from the operating schedule that governs the Witt-Penn (Rt-7) Bridge across the Hackensack River at mile 3.1, at Jersey City, New Jersey. The deviation is necessary to facilitate replacement of the safety barrier gates at the bridge. This temporary deviation authorizes the bridge to remain in the closed position for five days.

DATES: This deviation is effective from June 9, 2014 through June 13, 2014.

ADDRESSES: The docket for this deviation, USCG-2014-0317 is available at http://www.regulations.gov. Type the docket number in the “SEARCH” box and click “SEARCH”. Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Joe Arca, Project Officer, First Coast Guard District, telephone (212) 668-7165, email joe.m.arca@uscg.mil. If you have questions on viewing the docket, call Cheryl Collins, Program Manager, Docket Operations, telephone 202-366-9826.

SUPPLEMENTARY INFORMATION: The Witt-Penn (Rt-7) Bridge across the Hackensack River at mile 3.1, at Jersey City, has a vertical clearance in the closed position of 35 feet at mean high water and 40 feet at mean low water. The existing drawbridge operation regulations are listed at 33 CFR 117.723. The waterway users are seasonal recreational vessels and commercial vessels of various sizes.

The owner of the bridge, New Jersey Department of Transportation, requested a temporary deviation from the operating schedule to facilitate replacement of the safety barrier gates at the bridge.

Under this temporary deviation the Witt-Penn (Rt-7) Bridge may remain in the closed position for five days from June 9, 2014 through June 13, 2014. There are no alternate routes for vessel traffic. The bridge could be opened in an emergency situation.

The Coast Guard will also inform the users of the waterways through our Local and Broadcast Notice to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: April 24, 2014.
C.J. Bisignano,
Supervisory Bridge Management Specialist, First Coast Guard District.

[FR Doc. 2014-10265 Filed 5-5-14; 8:45 am]

BILLING CODE 9110-04-P